DEPARTMENT OF ENERGY

Federal Energy Regulatory Commission

[Docket No. IC19-8-000]

Commission Information Collection Activities Consolidated Comment Request; Extension (FERC-606 and FERC-607)

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection FERC-606, (Notification of Request for Federal Authorization and Requests for Further Information), and FERC-607, (Report on Decision or Action on Request for Federal Authorization) and submitting the information collections to the Office of Management and Budget (OMB) for review. Any interested person may file comments directly with OMB and should address a copy of those comments to the Commission as explained below. On February 8, 2019, the Commission published a Notice in the Federal Register in Docket No. IC19-8-000 requesting public comments. The Commission received no public comments and is noting that in the related submittal to OMB.

DATES: Comments on the collection of information are due May 15, 2019.

ADDRESSES: Comments filed with OMB, identified by OMB Control No. 1902-0241, should be sent via email to the Office of Information and Regulatory Affairs: oira_submission@omb.gov. Attention: Federal Energy Regulatory Commission Desk Officer.

A copy of the comments should also be sent to the Commission, in Docket No. IC19-8-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-606, Notification of Request for Federal Authorization and Requests for Further Information; FERC-607, Report on Decision or Action on Request for Federal Authorization.

OMB Control No.: 1902-0241.

Type of Request: Three-year extension of these information collection requirements for all collections described below with no changes to the current reporting requirements. Please note that each collection is distinct from the other.

Abstract: FERC-606 requires agencies and officials responsible for issuing, conditioning, or denying requests for federal authorizations necessary for a proposed natural gas project to report to the Commission regarding the status of an authorization request. This reporting requirement is intended to allow agencies to assist the Commission to make better informed decisions in establishing due dates for agencies' decisions. FERC-607 requires agencies or officials to submit to the Commission a copy of a decision or action on a request for federal authorization and an accompanying index to the documents and materials relied on in reaching a conclusion.

The information collections can neither be discontinued nor collected less frequently because of statutory requirements. The consequences of not collecting this information are that the Commission would be unable to fulfill its statutory mandate under the Energy Policy Act of 2005 to:

• Establish a schedule for agencies to review requests for federal authorizations required for a project, and

• Compile a record of each agency's decision, together with the record of the Commission's decision, to serve as a consolidated record for the purpose of appeal or review, including judicial review.

Type of Respondent: Agencies with federal authorization responsibilities.

Estimate of Annual Burden: ¹ The Commission estimates the annual public reporting burden and cost ² (rounded) for the information collection as follows:

¹ Burden is defined as the total time, effort, or financial resources expended by persons to generate, maintain, retain, or disclose or provide information to or for a Federal agency. For further explanation of what is included in the information collection burden, refer to 5 CFR 1320.3.

² The estimates for cost per response are derived using the formula: Average Burden Hours per Response * 79.00 per hour = Average Cost per Response. The hourly cost figure comes from the FERC average salary plus benefits of $164,820 per year (or $79.00/hour). These estimates were updated in May 2018. This figure is being used because the staff thinks industry is similarly situated in terms of average hourly cost.

FERC-606 (Notification of Request for Federal Authorization and Requests for Further Information), and FERC-607 (Report on Decision or Action on Request for Federal Authorization)
| Number of respondents | Annual number of responses per respondent | Total number of responses | Average burden hours & cost per response | Total annual burden hours & total annual cost | Cost per respondent ($)
| (1) | (2) | (1) * (2) = (3) | (4) | (3) * (4) = (5) | (5) ÷ (1) × (2)
FERC-606 | 6 | 1 | 6 | 4 hrs.; $316 | 24 hrs.; $1,896 | $316
FERC-607 | 1 | 1 | 1 | 1 hr.; $79 | 1 hr.; $79 | 79
Total | 7 |  | 7 |  | 25 hrs.; $1,975 |

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

Dated: April 9, 2019.
Kimberly D. Bose,
Secretary.

[FR Doc. 2019-07420 Filed 4-12-19; 8:45 am]

BILLING CODE 6717-01-P